DEPARTMENT OF TRANSPORTATION

Federal Aviation Administration

14 CFR Part 97

[Docket No. 30839; Amdt. No. 3476 ]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 7, 2012. The compliance date for each SIAP, associated Takeoff Minimums, and ODP is specified in the amendatory provisions.

The incorporation by reference of certain publications listed in the regulations is approved by the Director of the Federal Register as of May 7, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 27, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 31 MAY 2012

Anchorage, AK, Ted Stevens Anchorage Intl, ILS RWY 15, Amdt 6

Anchorage, AK, Ted Stevens Anchorage Intl, ILS OR LOC/DME RWY 7L, ILS RWY 7L (SA CAT I), ILS RWY 7L (SA CAT II), Amdt 3

Anchorage, AK, Ted Stevens Anchorage Intl, ILS OR LOC/DME RWY 7R, ILS RWY 7R (CAT II), ILS RWY 7R (CAT III), ILS RWY 7R (SA CAT I), Amdt 3

Oneonta, AL, Robbins Field, RNAV (GPS) RWY 5, Orig

Oneonta, AL, Robbins Field, RNAV (GPS) RWY 23, Orig

Oneonta, AL, Robbins Field, Takeoff Minimums and Obstacle DP, Orig

Prattville, AL, Prattville-Grouby Field, RNAV (GPS) RWY 9, Amdt 2

Prattville, AL, Prattville-Grouby Field, RNAV (GPS) RWY 27, Orig

Camden, AR, Harrell Field, RNAV (GPS) RWY 1, Amdt 1

Camden, AR, Harrell Field, RNAV (GPS) RWY 19, Amdt 1

Camden, AR, Harrell Field, Takeoff Minimums and Obstacle DP, Amdt 1

Phoenix, AZ, Phoenix-Mesa Gateway, RNAV (GPS) Y RWY 30C, Amdt 1

Phoenix, AZ, Phoenix-Mesa Gateway, RNAV (RNP) Z RWY 30C, Orig

Oxford, CT, Waterbury-Oxford, RNAV (GPS) RWY 36, Amdt 2

Windsor Locks, CT, Bradley Intl, RNAV (GPS) Y RWY 24, Amdt 3A

Windsor Locks, CT, Bradley Intl, RNAV (RNP) Z RWY 24, Orig-A

Washington, DC, Washington Dulles Intl, VOR/DME RWY 12, Amdt 9

Apalachicola, FL, Apalachicola Regional, NDB RWY 14, AMDT 2

Apalachicola, FL, Apalachicola Regional, NDB RWY 32, AMDT 2

Apalachicola, FL, Apalachicola Regional, RNAV (GPS) RWY 6, Amdt 1

Apalachicola, FL, Apalachicola Regional, RNAV (GPS) RWY 14, Amdt 2

Apalachicola, FL, Apalachicola Regional, RNAV (GPS) RWY 18, Orig

Apalachicola, FL, Apalachicola Regional, RNAV (GPS) RWY 24, Amdt 1

Apalachicola, FL, Apalachicola Regional, RNAV (GPS) RWY 32, Amdt 2

Apalachicola, FL, Apalachicola Regional, RNAV (GPS) RWY 36, Orig

Apalachicola, FL, Apalachicola Regional, RNAV (GPS)-A, Orig-A, CANCELLED

Apalachicola, FL, Apalachicola Regional, RNAV (GPS)-B, Orig-A, CANCELLED

Apalachicola, FL, Apalachicola Regional, Takeoff Minimums and Obstacle DP, Amdt 1

Fort Pierce, FL, St Lucie County Intl, Takeoff Minimums and Obstacle DP, Amdt 4

Miami, FL, Miami Intl, ILS OR LOC RWY 8R, Amdt 30B

Panama City, FL, Northwest Florida Beaches Intl, ILS OR LOC/DME RWY 16, Amdt 1

Panama City, FL, Northwest Florida Beaches Intl, RNAV (GPS) RWY 16, Amdt 1

Panama City, FL, Northwest Florida Beaches Intl, RNAV (GPS) RWY 34, Amdt 1

Tampa, FL, Peter O Knight, NDB RWY 4, Amdt 12A

Tampa, FL, Peter O Knight, RNAV (GPS) RWY 22, Amdt 2

Tampa, FL, Peter O Knight, RNAV (GPS) RWY 36, Amdt 2A

Tampa, FL, Peter O Knight, Takeoff Minimums and Obstacle DP, Amdt 7

Independence, IA, Independence Muni, RNAV (GPS) RWY 36, Orig-A

Chicago, IL, Chicago O'Hare Intl, ILS OR LOC RWY 9L, ILS RWY 9L (CAT II), ILS RWY 9L (CAT III), Amdt 1

Chicago, IL, Chicago O'Hare Intl, ILS OR LOC RWY 22L, Amdt 5

Chicago, IL, Chicago O'Hare Intl, ILS OR LOC RWY 22R, Amdt 9

Chicago, IL, Chicago O'Hare Intl, ILS OR LOC RWY 27R, ILS RWY 27R (CAT II), ILS RWY 27R (CAT III), Amdt 1

Chicago, IL, Chicago O'Hare Intl, LOC RWY 4L, Amdt 22

Chicago, IL, Chicago O'Hare Intl, RNAV (GPS) RWY 4L, Amdt 2

Chicago, IL, Chicago O'Hare Intl, RNAV (GPS) RWY 4R, Amdt 1

Chicago, IL, Chicago O'Hare Intl, RNAV (GPS) RWY 9L, Amdt 1

Chicago, IL, Chicago O'Hare Intl, RNAV (GPS) RWY 10, Amdt 3C

Chicago, IL, Chicago O'Hare Intl, RNAV (GPS) RWY 14L, Amdt 1E

Chicago, IL, Chicago O'Hare Intl, RNAV (GPS) RWY 14R, Amdt 2B

Chicago, IL, Chicago O'Hare Intl, RNAV (GPS) RWY 22L, Amdt 1

Chicago, IL, Chicago O'Hare Intl, RNAV (GPS) RWY 22R, Amdt 2

Chicago, IL, Chicago O'Hare Intl, RNAV (GPS) RWY 27R, Amdt 1

Chicago, IL, Chicago O'Hare Intl, RNAV (GPS) RWY 28, Amdt 2D

Chicago, IL, Chicago O'Hare Intl, RNAV (GPS) Y RWY 22L, Orig-C, CANCELLED

Wichita, KS, Wichita Mid-Continent, RNAV (GPS) RWY 1R, Amdt 1

Greenville, KY, Muhlenberg County, Takeoff Minimums and Obstacle DP, Amdt 2

Natchitoches, LA, Natchitoches Rgnl, LOC RWY 35, Amdt 4

Natchitoches, LA, Natchitoches Rgnl, NDB RWY 35, Amdt 6

Natchitoches, LA, Natchitoches Rgnl, RNAV (GPS) RWY 17, Amdt 1

Natchitoches, LA, Natchitoches Rgnl, RNAV (GPS) RWY 35, Amdt 1

Hopedale, MA, Hopedale Industrial Park, GPS-A, Orig-A, CANCELLED

Hopedale, MA, Hopedale Industrial Park, RNAV (GPS)-A, Orig

Orange, MA, Orange Muni, GPS RWY 32, Orig-E, CANCELLED

Orange, MA, Orange Muni, NDB RWY 1, Amdt 1

Orange, MA, Orange Muni, NDB RWY 32, Amdt 1

Orange, MA, Orange Muni, RNAV (GPS) RWY 32, Orig

Orange, MA, Orange Muni, Takeoff Minimums and Obstacle DP, Amdt 1

Gaithersburg, MD, Montgomery County Airpark, RNAV (GPS)-A, Orig

Ridgely, MD, Ridgely Airpark, RNAV (GPS) RWY 12, Orig-A

Ridgely, MD, Ridgely Airpark, RNAV (GPS) RWY 30, Orig-A

Boyne City, MI, Boyne City Muni, RNAV (GPS) RWY 9, Orig

Boyne City, MI, Boyne City Muni, RNAV (GPS) RWY 27, Orig

Boyne City, MI, Boyne City Muni, Takeoff Minimums and Obstacle DP, Orig

Ontonagon, MI, Ontonagon County-Schuster Field, NDB OR GPS-A, Amdt 4A, CANCELLED

Ontonagon, MI, Ontonagon County-Schuster Field, RNAV (GPS)-A, Orig

Ontonagon, MI, Ontonagon County-Schuster Field, Takeoff Minimums and Obstacle DP, Amdt 2

Owatonna, MN, Owatonna Degner Rgnl, ILS OR LOC RWY 30, Amdt 2A

Owatonna, MN, Owatonna Degner Rgnl, RNAV (GPS) RWY 12, Amdt 1

Owatonna, MN, Owatonna Degner Rgnl, RNAV (GPS) RWY 30, Orig

Jacksonville, NC, Albert J Ellis, ILS OR LOC RWY 5, Amdt 9

Jacksonville, NC, Albert J Ellis, RNAV (GPS) RWY 5, Amdt 1

Jacksonville, NC, Albert J Ellis, RNAV (GPS) RWY 23, Orig

Pittstown, NJ, Sky Manor, RNAV (GPS) RWY 7, Orig

Pittstown, NJ, Sky Manor, RNAV (GPS) RWY 25, Orig

Pittstown, NJ, Sky Manor, Takeoff Minimums and Obstacle DP, Amdt 2

Pittstown, NJ, Sky Manor, VOR RWY 7, Amdt 3

Robbinsville, NJ, Trenton-Robbinsville, GPS RWY 11, Orig, CANCELLED

Robbinsville, NJ, Trenton-Robbinsville, RNAV (GPS) RWY 11, Orig

Robbinsville, NJ, Trenton-Robbinsville, RNAV (GPS) RWY 29, Amdt 1

Robbinsville, NJ, Trenton-Robbinsville, VOR RWY 29, Amdt 11

Somerville, NJ, Somerset, RNAV (GPS) RWY 30, Amdt 1

Somerville, NJ, Somerset, VOR RWY 8, Amdt 12

Cortland, NY, Cortland County-Chase Field, Takeoff Minimums and Obstacle DP, Amdt 3

Hornell, NY, Hornell Muni, GPS RWY 18, Orig-B, CANCELLED

Hornell, NY, Hornell Muni, GPS RWY 36, Orig-B, CANCELLED

Hornell, NY, Hornell Muni, RNAV (GPS) RWY 18, Orig

Hornell, NY, Hornell Muni, RNAV (GPS) RWY 36, Orig

Hornell, NY, Hornell Muni, Takeoff Minimums and Obstacle DP, Amdt 5

New York, NY, La Guardia, RNAV (GPS) RWY 13, Amdt 1

Ogdensburg, NY, Ogdensburg Intl, RNAV (GPS) RWY 9, Orig

Westhampton Beach, NY, Francis S Gabreski, COPTER ILS OR LOC RWY 24, Amdt 2A, CANCELLED

Westhampton Beach, NY, Francis S Gabreski, ILS OR LOC RWY 24, Amdt 10

Westhampton Beach, NY, Francis S Gabreski, RNAV (GPS) RWY 6, Amdt 2

Westhampton Beach, NY, Francis S Gabreski, RNAV (GPS) RWY 24, Amdt 2

Westhampton Beach, NY, Francis S Gabreski, TACAN RYW 6, Orig

Westhampton Beach, NY, Francis S Gabreski, TACAN RWY 24, Orig

Westhampton Beach, NY, Francis S Gabreski, Takeoff Minimums and Obstacle DP, Amdt 2

Portsmouth, OH, Greater Portsmouth Rgnl, Takeoff Minimums and Obstacle DP, Amdt 3

Tiffin, OH, Seneca County, RNAV (GPS) RWY 24, Amdt 1

Madras, OR, Madras Municipal, RNAV (GPS) RWY 16, Amdt 1

Madras, OR, Madras Municipal, RNAV (GPS) RWY 34, Orig

Madras, OR, Madras Municipal, RNAV (GPS)-A, Amdt 1, CANCELLED

Danville, PA, Danville, RNAV (GPS) RWY 9, Orig

Danville, PA, Danville, RNAV (GPS) RWY 27, Orig

Danville, PA, Danville, Takeoff Minimums and Obstacle DP, Orig

Lebanon, PA, Keller Brothers, RNAV (GPS) RWY 7, Orig

Lebanon, PA, Keller Brothers, RNAV (GPS) RWY 25, Orig

Lebanon, PA, Keller Brothers, Takeoff Minimums and Obstacle DP, Orig

Philadelphia, PA, Philadelphia Intl, Takeoff Minimums and Obstacle DP, Amdt 9

Quakertown, PA, Quakertown, NDB RWY 29, Amdt 11

Quakertown, PA, Quakertown, RNAV (GPS) RWY 11, Orig

Quakertown, PA, Quakertown, RNAV (GPS) RWY 29, Amdt 1

Austin, TX, Austin-Bergstrom Intl, ILS OR LOC RWY 17L, ILS RWY 17L (SA CAT I), ILS RWY 17L (CAT II), ILS RWY 17L (CAT III), Amdt 2

Austin, TX, Austin-Bergstrom Intl, ILS OR LOC RWY 17R, Amdt 4

Austin, TX, Austin-Bergstrom Intl, ILS OR LOC RWY 35L, Amdt 5

Austin, TX, Austin-Bergstrom Intl, ILS OR LOC RWY 35R, Amdt 2

Austin, TX, Austin-Bergstrom Intl, RNAV (GPS) RWY 17L, Amdt 1

Austin, TX, Austin-Bergstrom Intl, RNAV (GPS) RWY 17R, Amdt 1

Austin, TX, Austin-Bergstrom Intl, RNAV (GPS) RWY 35L, Amdt 1

Austin, TX, Austin-Bergstrom Intl, RNAV (GPS) RWY 35R, Amdt 1

Austin, TX, Austin-Bergstrom Intl, RNAV (GPS) Y RWY 35L, Orig, CANCELLED

Houston, TX, George Bush Intercontinental/Houston, GLS RWY 8L, Orig

Houston, TX, George Bush Intercontinental/Houston, GLS RWY 8R, Orig

Houston, TX, George Bush Intercontinental/Houston, GLS RWY 9, Orig

Houston, TX, George Bush Intercontinental/Houston, GLS RWY 26L, Orig

Houston, TX, George Bush Intercontinental/Houston, GLS RWY 26R, Orig

Houston, TX, George Bush Intercontinental/Houston, GLS RWY 27, Orig

Houston, TX, George Bush Intercontinental/Houston, ILS OR LOC RWY 8L, ILS RWY 8L (CAT II), ILS RWY 8L (CAT III), ILS RWY 8L (SA CAT I), Amdt 3

Houston, TX, George Bush Intercontinental/Houston, ILS OR LOC RWY 8R, ILS RWY 8R (SA CAT II), Amdt 24

Houston, TX, George Bush Intercontinental/Houston, ILS OR LOC RWY 9, ILS RWY 9 (SA Cat II), Amdt 9

Houston, TX, George Bush Intercontinental/Houston, RNAV (GPS) RWY 8L, Amdt 4

Houston, TX, George Bush Intercontinental/Houston, RNAV (GPS) RWY 9, Amdt 4

Houston, TX, George Bush Intercontinental/Houston, RNAV (GPS) RWY 26L, Amdt 3A

Houston, TX, George Bush Intercontinental/Houston, RNAV (GPS) RWY 26R, Amdt 3A

Houston, TX, George Bush Intercontinental/Houston, RNAV (GPS) Z RWY 8R, Amdt 3

Houston, TX, George Bush Intercontinental/Houston, RNAV (RNP) Y RWY 8R, Orig

Houston, TX, George Bush Intercontinental/Houston, RNAV (RNP) Y RWY 27, Orig

Madisonville, TX, Madisonville Muni, Takeoff Minimums and Obstacle DP, Orig

Monahans, TX, Roy Hurd Memorial, Takeoff Minimums and Obstacle DP, Amdt 1

Clarksville, VA, Lake Country Regional, GPS RWY 4, Orig-B, CANCELLED

Clarksville, VA, Lake Country Regional, RNAV (GPS) RWY 4, Orig

Clarksville, VA, Lake Country Regional, RNAV (GPS) RWY 22, Orig

Leesburg, VA, Leesburg Executive, ILS OR LOC RWY 17, Amdt 1

Leesburg, VA, Leesburg Executive, RNAV (GPS) RWY 17, Amdt 3

New Market, VA, New Market, Takeoff Minimums and Obstacle DP, Orig

Norfolk, VA, Norfolk Intl, ILS OR LOC RWY 5, Amdt 26A

Newport, VT, Newport State, GPS RWY 36, Orig-A, CANCELLED

Newport, VT, Newport State, RNAV (GPS) RWY 36, Orig

Guernsey, WY, Camp Guernsey, GPS RWY 32, Orig, CANCELLED

Guernsey, WY, Camp Guernsey, NDB RWY 32, Amdt 1

Guernsey, WY, Camp Guernsey, RNAV (GPS) RWY 32, Orig

Torrington, WY, Torrington Muni, NDB RWY 10, Amdt 2

Torrington, WY, Torrington Muni, NDB RWY 28, Amdt 2

RESCINDED: On March 28, 2012 (77 FR 18683), the FAA published an Amendment in Docket No. 30833, Amdt No. 3470 to Part 97 of the Federal Aviation Regulations under section 97.33. The following 46 entries for Denver, CO, and 1 entry for Camden, AR, effective 31 May, 2012, are hereby rescinded in their entirety:

Camden, AR, Harrell Field, VOR/DME RWY 1, Amdt 10

Denver, CO, Centennial, Takeoff Minimums and Obstacle DP, Amdt 5

Denver, CO, Denver Intl, ILS OR LOC RWY 7, Amdt 3

Denver, CO, Denver Intl, ILS OR LOC RWY 8, Amdt 5

Denver, CO, Denver Intl, ILS OR LOC RWY 16L, Amdt 3

Denver, CO, Denver Intl, ILS OR LOC RWY 16R, Amdt 1

Denver, CO, Denver Intl, ILS OR LOC RWY 17L, Amdt 4

Denver, CO, Denver Intl, ILS OR LOC RWY 17R, Amdt 3

Denver, CO, Denver Intl, ILS OR LOC RWY 25, Amdt 3

Denver, CO, Denver Intl, ILS OR LOC RWY 26, Amdt 3

Denver, CO, Denver Intl, ILS OR LOC RWY 34L, ILS RWY 34L (CAT II), ILS RWY 34L (CAT III), ILS RWY 34L (SA CAT I), Amdt 2

Denver, CO, Denver Intl, ILS OR LOC RWY 34R, ILS RWY 34R (CAT II), ILS RWY 34R (CAT III), ILS RWY 34R (SA CAT I), Amdt 3

Denver, CO, Denver Intl, ILS OR LOC RWY 35L, ILS RWY 35L (CAT II), ILS RWY 35L (CAT III), ILS RWY 35L (SA CAT I), Amdt 5

Denver, CO, Denver Intl, ILS OR LOC RWY 35R, ILS RWY 35R (CAT II), ILS RWY 35R (CAT III), ILS RWY 35R (SA CAT I), Amdt 3

Denver, CO, Denver Intl, RNAV (GPS) Y RWY 7, Amdt 1

Denver, CO, Denver Intl, RNAV (GPS) Y RWY 8, Amdt 1

Denver, CO, Denver Intl, RNAV (GPS) Y RWY 16L, Amdt 1

Denver, CO, Denver Intl, RNAV (GPS) Y RWY 16R, Amdt 1

Denver, CO, Denver Intl, RNAV (GPS) Y RWY 17L, Amdt 1

Denver, CO, Denver Intl, RNAV (GPS) Y RWY 17R, Amdt 1

Denver, CO, Denver Intl, RNAV (GPS) Y RWY 25, Amdt 1

Denver, CO, Denver Intl, RNAV (GPS) Y RWY 26, Amdt 1

Denver, CO, Denver Intl, RNAV (GPS) Y RWY 34L, Amdt 2

Denver, CO, Denver Intl, RNAV (GPS) Y RWY 34R, Amdt 2

Denver, CO, Denver Intl, RNAV (GPS) Y RWY 35L, Amdt 2

Denver, CO, Denver Intl, RNAV (GPS) Y RWY 35R, Amdt 2

Denver, CO, Denver Intl, RNAV (RNP) Z RWY 7, Orig

Denver, CO, Denver Intl, RNAV (RNP) Z RWY 8, Orig

Denver, CO, Denver Intl, RNAV (RNP) Z RWY 16L, Orig

Denver, CO, Denver Intl, RNAV (RNP) Z RWY 16R, Orig

Denver, CO, Denver Intl, RNAV (RNP) Z RWY 17L, Orig

Denver, CO, Denver Intl, RNAV (RNP) Z RWY 17R, Orig

Denver, CO, Denver Intl, RNAV (RNP) Z RWY 25, Orig

Denver, CO, Denver Intl, RNAV (RNP) Z RWY 26, Orig

Denver, CO, Denver Intl, RNAV (RNP) Z RWY 34L, Orig

Denver, CO, Denver Intl, RNAV (RNP) Z RWY 34R, Orig

Denver, CO, Denver Intl, RNAV (RNP) Z RWY 35L, Orig

Denver, CO, Denver Intl, RNAV (RNP) Z RWY 35R, Orig

Denver, CO, Front Range, ILS OR LOC RWY 17, Amdt 1

Denver, CO, Front Range, ILS OR LOC RWY 26, Amdt 5

Denver, CO, Front Range, ILS OR LOC RWY 35, Amdt 1

Denver, CO, Front Range, NDB RWY 26, Amdt 5

Denver, CO, Front Range, RNAV (GPS) RWY 17, Amdt 1

Denver, CO, Front Range, RNAV (GPS) RWY 26, Amdt 1

Denver, CO, Front Range, RNAV (GPS) RWY 35, Amdt 1

Denver, CO, Front Range, Takeoff Minimums and Obstacle DP, Amdt 3

Denver, CO, Rocky Mountain Metropolitan, Takeoff Minimums and Obstacle DP, Amdt 5

[FR Doc. 2012-10727 Filed 5-4-12; 8:45 am]

BILLING CODE 4910-13-P